DEPARTMENT OF TRANSPORTATION

Federal Aviation Administration

Notice of Intent To Rule on an Application 07-02-C-00-PFN To Impose a Passenger Facility Charge (PFC) at Panama City/Bay County International Airport (PFN), Panama City, FL and the relocated Panama City-Bay County International Airport (New PFN) and To Use the Revenue from the PFC at New PFN

AGENCY: Federal Aviation Administration (FAA), DOT.

ACTION: Request for comments, notice of intent to rule on a PFC application.

SUMMARY: This document requests public comment on the supplementary material provided by the applicant, the Panama City-Bay County Airport and Industrial District (the District), in response to the FAA's requests for clarification of its application to impose a PFC at PFN and, once that airport closes, at the New PFN. The District will use the PFC revenue to construct New PFN.

The FAA received additional documentation and information in support of the District's PFC application, dated July 16, 2007. The FAA is soliciting public comment on this supplementary material. Once received and following the FAA's review of any comments submitted pursuant to this notice, a Final Agency Decision is anticipated either approving or disapproving the application, in whole or in part, within 60 days of the date of this Notice. The ruling will be issued under the provisions of the 49 U.S.C. 40117 and 14 Code of Federal Regulations Part 158 (14 CFR Part 158).

DATES: Comments must be received on or before April 17, 2008.

ADDRESSES: Comments on this supplemental material may be mailed or delivered in triplicate to the FAA at the following address: Financial Analysis and Passenger Facility Charge Branch, 800 Independence Ave., SW., Room 619, Washington, DC 20591.

In addition, one copy of any comments submitted to the FAA must be mailed or delivered to Mr. Randy Curtis, Executive Director, at the following address: Panama City/Bay County International Airport, 3173 Airport Road, Panama City, Florida 32405.

FOR FURTHER INFORMATION CONTACT: Mr. Dennis Walsh, Financial Analysis and Passenger Facility Charge Branch, 800 Independence Ave., SW., Room 619, Washington, DC 20591. (202) 493-4890.

The supplemental information may be reviewed in person at this same location.

SUPPLEMENTARY INFORMATION: The FAA invites public comment on the additional documentation provided by the applicant in response to the FAA's requests for clarification and the District, to the FAA in support of the District's application to impose a PFC at PFN and, once that airport closes, at the New PFN and to use the PFC revenue at the New PFN to construct New PFN.

This document requests public comment on the supplementary material provided by the applicant, the Panama City-Bay County Airport and Industrial District (the District), in response to the FAA's requests for clarification of its application to impose a PFC at PFN and, once that airport closes, at the New PFN and to use the PFC revenue at the New PFN to construct New PFN.

The supplemental material includes all documentation provided to the FAA by the District after July 16, 2007, which was the date of the Districts' submission of its PFC application for collection and use of PFC revenue to construct certain portions of New PFN. The FAA will issue a decision on the District's PFC application under the provisions of the 49 U.S.C. 40117 and 14 CFR Part 158.

Background: On July 16, 2007, the District submitted its application to impose a PFC at PFN and, once that airport closes, at the New PFN. The District will use the PFC revenue to construct New PFN.

On August 16, 2007, the FAA sent a letter to the District notifying it that the PFC application was substantially complete.

The FAA's decision making process on PFC applications may include publishing a notice in the Federal Register informing the public of the FAA's intention to rule on the pending application and inviting public comment on that application.

Consideration is given to all comments submitted pursuant to the Federal Register Notice during FAA's deliberations on the application. The FAA responds to the substantive comments in its Final Agency Decision. The FAA published notice and invited comment on the District's application in the Federal Register on August 24, 2007. The deadline for the public to comment closed on September 24, 2007. The FAA did not receive any comments in response to its August 24, 2007 Federal Register notice.

In conjunction with rendering its decisions on PFC applications, the FAA determines the PFC eligibility for each project, and whether the eligible projects are adequately justified. In reviewing the application submitted by the District, the FAA discovered that further clarification would be helpful to make its required determinations.

Accordingly, the FAA asked the District to clarify certain information on costs related to Project # 1—the Perimeter Road and Fencing Project and Project #3 Paving/Lighting/NAVAIDS (specifically the NAVAIDS portion); and information related to Project # 6—Facilities (particularly the design of the Public Safety Building for Aircraft Rescue and Firefighting (ARFF)). The FAA also asked the District to provide clarification as to the use of AIP and PFC funding on the projects.

In response to the FAA's requests, the District provided supplemental material in the form of e-mails, which included cost information on perimeter road improvements and NAVAIDS; a revised Exhibit 2; a funding summary; and floor plans of the ARFF building.

Any person may inspect the PFC application and supplementary material submitted by the District to the FAA at the FAA office listed above under FOR FURTHER INFORMATION CONTACT (call (202) 267-3845 to arrange for access).

In addition, any person may, upon request, inspect the application, notice and supplemental information germane to the application in person at the offices of the District.

Issued in Washington, DC, on March 7, 2008.
Joe Hebert,
Manager, Financial Analysis and Passenger Facility Charge Branch.

[FR Doc. E8-5163 Filed 3-17-08; 8:45 am]

BILLING CODE 4910-13-M